DEPARTMENT OF TRANSPORTATION

Federal Aviation Administration

14 CFR Part 39

[Docket No. FAA-2011-0150; Directorate Identifier 2010-NM-100-AD; Amendment 39-16619; AD 2011-05-10]

RIN 2120-AA64

Airworthiness Directives; BAE Systems (Operations) Limited Model ATP Airplanes; BAE Systems (Operations) Limited Model HS 748 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

* * * * *

Recently, during a walk round check, an operator found an aileron trim tab hinge pin that had migrated sufficiently to cause a rubbing foul on the flap. Other reports indicate that, for the purposes of expediency, it has become common practice during maintenance when replacing a control tab, instead of unbolting the forward part of the piano hinge from the primary control surface, the hinge pins are punched out of the hinges. Investigations have concluded that, after reinserting the pins after maintenance, the ends of the hinges may not have been pinched, which is likely to have been the cause of the detected hinge pin migration.

This condition [non-pinched hinge pin ends], if not detected and corrected, could lead to further incidents of migration of a tab hinge pin out of the hinge, likely resulting in restricted movement of the tab control and consequent reduced control of the aeroplane.

This AD requires actions that are intended to address the unsafe condition described in the MCAI.

DATES: This AD becomes effective March 25, 2011.

The Director of the Federal Register approved the incorporation by reference of certain publications listed in the AD as of March 25, 2011.

We must receive comments on this AD by April 25, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; phone: 425-227-1175; fax: 425-227-1149.

SUPPLEMENTARY INFORMATION:

Discussion

The European Aviation Safety Agency (EASA), which is the Technical Agent for the Member States of the European Community, has issued EASA Airworthiness Directive 2010-0035, dated March 4, 2010 (referred to after this as “the MCAI”), to correct an unsafe condition for the specified products. The MCAI states:

Early in the life of the ATP (circa 1989), a report was received that a control surface hinge pin had migrated out of position, causing a rubbing contact. BAE Systems responded by issuing SB ATP-27-11, describing a one-time inspection of the hinge pins, which was classified mandatory by UK CAA AD 006-06-89. Both SB and AD were subsequently cancelled in 1990. The HS.748 and the ATP secondary controls are similar in these areas, although no action was taken on the HS.748 fleet at that time.

Recently, during a walk round check, an operator found an aileron trim tab hinge pin that had migrated sufficiently to cause a rubbing foul on the flap. Other reports indicate that, for the purposes of expediency, it has become common practice during maintenance when replacing a control tab, instead of unbolting the forward part of the piano hinge from the primary control surface, the hinge pins are punched out of the hinges.

Investigations have concluded that, after reinserting the pins after maintenance, the ends of the hinges may not have been pinched, which is likely to have been the cause of the detected hinge pin migration.

This condition [non-pinched hinge pin ends], if not detected and corrected, could lead to further incidents of migration of a tab hinge pin out of the hinge, likely resulting in restricted movement of the tab control and consequent reduced control of the aeroplane.

For the reasons described above, this AD requires the [detailed] inspection of aileron and rudder tab piano hinge pins [for length and end pinching] and, depending on findings, the necessary corrective actions.

Corrective actions include cutting the hinge pin to specified size, and pinching the piano hinge ends sufficient to prevent the piano hinge pin from migrating from the piano hinge. You may obtain further information by examining the MCAI in the AD docket.

Relevant Service Information

BAE Systems (Operations) Limited has issued Service Bulletin ATP-27-090, dated April 14, 2009; and Service Bulletin HS748-27-136, dated April 14, 2009. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2011-0150; Directorate Identifier 2010-NM-100-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-05-10 BAE Systems (Operations) Limited: Amendment 39-16619. Docket No. FAA-2011-0150; Directorate Identifier 2010-NM-100-AD.

Effective Date

(a) This airworthiness directive (AD) becomes effective March 25, 2011.

Affected ADs

(b) None.

Applicability

(c) This AD applies to all BAE Systems (Operations) Limited Model ATP airplanes and BAE Systems (Operations) Limited Model HS 748 series 2A and series 2B airplanes; certificated in any category.

Subject

(d) Air Transport Association (ATA) of America Code 27: Flight Controls.

Reason

(e) The mandatory continued airworthiness information (MCAI) states:

* * * * *

Recently, during a walk round check, an operator found an aileron trim tab hinge pin that had migrated sufficiently to cause a rubbing foul on the flap. Other reports indicate that, for the purposes of expediency, it has become common practice during maintenance when replacing a control tab, instead of unbolting the forward part of the piano hinge from the primary control surface, the hinge pins are punched out of the hinges. Investigations have concluded that, after reinserting the pins after maintenance, the ends of the hinges may not have been pinched, which is likely to have been the cause of the detected hinge pin migration.

This condition [non-pinched hinge pin ends], if not detected and corrected, could lead to further incidents of migration of a tab hinge pin out of the hinge, likely resulting in restricted movement of the tab control and consequent reduced control of the aeroplane.

Compliance

(f) You are responsible for having the actions required by this AD performed within the compliance times specified, unless the actions have already been done.

Inspection and Corrective Action

(g) Within 90 days after the effective date of this AD: Do a detailed inspection of the aileron and rudder tab piano hinge pins to determine that each piano hinge pin is 0.120 inch (3.00 mm) shorter than the piano hinge at each end; and that the piano hinge ends have been pinched sufficiently to prevent the piano hinge migrating from the piano hinge, in accordance with the Accomplishment Instructions of BAE Systems (Operations) Limited Service Bulletin ATP-27-090, dated April 14, 2009; or BAE Systems (Operations) Limited Service Bulletin HS748-27-136, dated April 14, 2009, as applicable.

(1) If any piano hinge pin is not 0.120 inch (3.00 mm) shorter than the piano hinge at each end, before further flight, cut to size, in accordance with Accomplishment Instructions of BAE Systems (Operations) Limited Service Bulletin ATP-27-090, dated April 14, 2009; or BAE Systems (Operations) Limited Service Bulletin HS748-27-136, dated April 14, 2009; as applicable.

(2) If any piano hinge pin is not pinched sufficiently to prevent the piano hinge migrating from the piano hinge, before further flight, pinch the hinge, in accordance with Accomplishment Instructions of BAE Systems (Operations) Limited Service Bulletin ATP-27-090, dated April 14, 2009; or BAE Systems (Operations) Limited Service Bulletin HS748-27-136, dated April 14, 2009; as applicable.

FAA AD Differences

Note 1: This AD differs from the MCAI and/or service information as follows: No differences

Other FAA AD Provisions

(h) The following provisions also apply to this AD:

(1) Alternative Methods of Compliance (AMOCs): The Manager, International Branch, ANM-116, Transport Airplane Directorate, FAA, has the authority to approve AMOCs for this AD, if requested using the procedures found in 14 CFR 39.19. Send information to Attn: Todd Thompson, Aerospace Engineer, International Branch, ANM-116, Transport Airplane Directorate, FAA, 1601 Lind Avenue, SW., Renton, Washington 98057-3356; phone: 425-227-1175; fax: 425-227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(i) Refer to Mandatory Continuing Airworthiness Information (MCAI) EASA Airworthiness Directive 2010-0035, dated March 04, 2010; BAE Systems (Operations) Limited Service Bulletin ATP-27-090, dated April 14, 2009; and BAE Systems (Operations) Limited Service Bulletin HS748-27-136, dated April 14, 2009; for related information.

Material Incorporated by Reference

(j) You must use BAE Systems (Operations) Limited Service Bulletin ATP-27-090, dated April 14, 2009; or BAE Systems (Operations) Limited Service Bulletin HS748-27-136, dated April 14, 2009; as applicable; to do the actions required by this AD, unless the AD specifies otherwise.

(1) The Director of the Federal Register approved the incorporation by reference of this service information under 5 U.S.C. 552(a) and 1 CFR part 51.

(2) For service information identified in this AD, contact BAE Systems (Operations) Limited, Customer Information Department, Prestwick International Airport, Ayrshire, KA9 2RW, Scotland, United Kingdom; telephone +44 1292 675207; fax +44 1292 675704; e-mail RApublications@baesystems.com; Internet http://www.baesystems.com/Businesses/RegionalAircraft/index.htm.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on February 22, 2011.
Kalene C. Yanamura,
Acting Manager, Transport Airplane Directorate, Aircraft Certification Service.

[FR Doc. 2011-5115 Filed 3-9-11; 8:45 am]

BILLING CODE 4910-13-P